DEPARTMENT OF TRANSPORTATION

Federal Transit Administration

FY 2012 Discretionary Livability Funding Opportunity: Alternatives Analysis Program

AGENCY: Federal Transit Administration (FTA), DOT.

ACTION: Notice of funding availability for FTA Alternatives Analysis Program: Solicitation of Project Proposals.

SUMMARY: The Federal Transit Administration (FTA) announces the availability of Section 5339 Alternatives Analysis program discretionary funds for Fiscal Year (FY) 2012. FTA will distribute these funds in accordance with the mission of this program, consistent with the eligibility requirements of this program, and in support of the U.S. Department of Transportation's (DOT) livability efforts.

The Surface and Air Transportation Programs Extension Act of 2011 (Temporary Authorization, 2012), Public Law 112-30, continues the authorization of the Federal transit programs of the U.S. DOT through March 31, 2012. Subject to action by Congress, FTA will fund the Alternatives Analysis program with approximately $25 million of unallocated Section 5339 funds made available by the Temporary Authorization.

This notice solicits proposals to compete for FY 2012 funding under the aforementioned program and livability initiative. Contingent on subsequent appropriations by Congress, FTA may also award FY 2013 funds to proposals submitted pursuant to this notice.

This notice includes priorities established by FTA for these discretionary funds, the criteria FTA will use to identify meritorious projects for funding, and describes how to apply for funding. This announcement is available on the FTA Web site at: http://www.fta.dot.gov. A synopsis of the funding opportunity will be posted in the FIND module of the government-wide electronic grants Web site at http://www.GRANTS.GOV. FTA will announce final selections on the FTA Web site and may also announce selections in the Federal Register.

DATES: Complete proposals must be submitted by 11:59 p.m. EDT on April 19, 2012. All proposals must be submitted electronically through the GRANTS.GOV “APPLY” function. Any prospective proposer intending to apply should initiate the process of registering on the GRANTS.GOV site immediately to ensure completion of registration before the submission deadline. Instructions for applying can be found on FTA's Web site at http://www.fta.dot.gov/alternativesanalysis and in the “FIND” module of GRANTS.GOV.

FOR FURTHER INFORMATION: Contact the appropriate FTA Regional Office found at http://www.fta.dot.gov for proposal-specific information and issues. For program-specific questions about applying to the Alternatives Analysis program outlined in this notice, please contact Kenneth Cervenka, Office of Planning and Environment, (202) 493-0512, email: kenneth.cervenka@dot.gov. A TDD is available at 1-800-877-8339 (TDD/FIRS).

SUPPLEMENTARY INFORMATION:

Table of Contents

I. Overview of FTA Discretionary Program

A. Authority

B. Policy Priorities

II. Discretionary Program Information

A. Description and Purpose

B. Eligibility Information

C. Evaluation Criteria, Review, and Selection

III. Proposal and Submission Information

IV. Award Administration

V. Agency Contacts and Technical Assistance

I. Overview of FTA Discretionary Program

A. Authority

Section 5339(a) of Title 49, United States Code authorizes the Secretary to make awards for FTA's Alternatives Analysis program and states:

The Secretary may award grants to States, authorities of the States, metropolitan planning organizations, and local governmental authorities to develop alternatives analyses as defined by section 5309(a)(1).

Section 5309(a)(1) defines “alternatives analysis” as:

A study conducted as part of the transportation planning process required under sections 5303 and 5304, which includes—

(A) An assessment of a wide range of public transportation alternatives designed to address a transportation problem in a corridor or subarea;

(B) Sufficient information to enable the Secretary to make the findings of project justification and local financial commitment required under this section;

(C) The selection of a locally preferred alternative; and

(D) The adoption of the locally preferred alternative as part of the long-range transportation plan required under section 5303.

B. Policy Priorities

Maintaining transit assets in a state of good repair, fostering livable communities and promoting sustainable development, and improving our Nation's environment through investments in clean energy resources, have been key strategic goals of the Department of Transportation (DOT) and FTA. Studies funded as a result of this notice will further the Department's livability efforts by supporting the study of tangible livability improvements within the existing Alternatives Analysis program while demonstrating the feasibility and value of such improvements.

Livable Communities and Sustainable Development

FTA has long fostered livable communities and sustainable development through its various transit programs and activities. Public transportation supports the development of communities, providing effective and reliable transportation options that increase access to jobs, recreation, health and social services, entertainment, educational opportunities, and other activities of daily life, while also improving mobility within and among these communities. Through various initiatives and legislative changes over the last fifteen years, FTA has allowed and encouraged projects that help integrate transit into a community through neighborhood improvements and enhancements to transportation facilities or services; make improvements to areas adjacent to public transit facilities that may facilitate mobility needs of transit users; or support other infrastructure investments that enhance the use of transit and other transportation options for the community.

On June 16, 2009, U.S. DOT Secretary Ray LaHood, U.S. Department of Housing and Urban Development (HUD) Secretary Shaun Donovan, and U.S. Environmental Protection Agency (EPA) Administrator Lisa Jackson announced a new partnership to help American families in all communities—rural, suburban and urban—gain better access to affordable housing, more transportation options, and lower transportation costs. DOT, HUD, and EPA created this high-level interagency partnership to better coordinate federal transportation, environmental protection, and housing investments.

The Alternatives Analysis program will invest in studies that fulfill the following six livability principles that serve as the foundation for the DOT-HUD-EPA Partnership for Sustainable Communities:

• Provide more transportation choices: Develop safe, reliable, and economical transportation choices to decrease household transportation costs, reduce our nation's dependence on foreign oil, improve air quality, reduce greenhouse gas emissions and promote public health.

• Promote equitable, affordable housing: Expand location- and energy-efficient housing choices for people of all ages, incomes, races and ethnicities to increase mobility and lower the combined cost of housing and transportation.

• Enhance economic competitiveness: Improve economic competitiveness through reliable and timely access to employment centers, educational opportunities, services and other basic needs by workers as well as expanded business access to markets.

• Support existing communities: Target Federal funding toward existing communities—through such strategies as transit-oriented, mixed-use development and land recycling— to increase community revitalization, improve the efficiency of public works investments, and safeguard rural landscapes.

• Coordinate policies and leverage investment: Align policies and funding to remove barriers to collaboration, leverage funding and increase the accountability and effectiveness of all levels of government to plan for future growth, including making smart energy choices such as locally generated renewable energy.

• Value communities and neighborhoods: Enhance the unique characteristics of all communities by investing in healthy, safe and walkable neighborhoods—rural, urban or suburban.

II. Discretionary Program Information

A. Description and Purpose

As defined in 49 U.S.C. 5309(a)(1), an alternatives analysis is a study conducted as part of the transportation planning process required under Sections 5303 and 5304 which includes: (1) An assessment of a wide range of public transportation alternatives designed to address a transportation problem in a corridor or subarea; (2) the development of sufficient information to enable the Secretary to make the findings of project justification and local financial commitment required under Section 5309; (3) the selection of a locally preferred alternative; and (4) the adoption of the locally preferred alternative as part of the long-range transportation plan required under Section 5303.

The funds available through this notice includes assistance to potential sponsors of New Starts and Small Starts projects in the evaluation of all reasonable transportation alternatives and general alignment options to address transportation needs in a defined travel corridor. Information about FTA's New Starts and Small Starts program can be found on FTA's web site at http://fta.dot.gov/12347_5221.html. FTA will invest in studies that are performed in accordance with the mission of the Alternatives Analysis program and support the six livability principles that serve as the foundation for the DOT-HUD-EPA Partnership for Sustainable Communities.

FTA advises potential proposers that current provisions of the New Starts and Small Starts program are subject to change. On January 25, 2012, FTA published a Notice of Proposed Rulemaking (NPRM) that proposes changes in the measurement of the existing statutory New Starts and Small Starts project evaluation criteria. Additionally, FTA's current program authorizations expire on March 31, 2012, and any new authorizing legislation may prescribe modifications to FTA's programs. However, the effective dates of a final rule and any new authorizing legislation are uncertain, and the contents of either are subject to change from current proposals. Moreover, changes to the Federal process will not remove the need for sponsors of major transit capital projects to assess costs and benefits of alternative project modes and alignments. FTA therefore encourages potential sponsors of New Starts and Small Starts projects to maintain their focus on conducting a technically sound analysis of alternatives that evaluate solutions to transportation problems and facilitate informed decision-making.

B. Eligibility Information

1. Eligible Proposers

Section 5339 authorizes FTA to award grants to States, authorities of the States, metropolitan planning organizations, and local governmental authorities to develop alternatives analyses as defined by Section 5309(a)(1).

2. Eligible Proposals and Expenses

FTA will award available discretionary funds to eligible proposers to conduct a new alternatives analysis or to support additional technical tasks in an on-going alternatives analysis that will improve and expand the information available to decision-makers considering major transit improvements. FTA will consider proposals for all areas of technical work that can better develop information about the costs and benefits of potential major transit improvements. These funds are not available for systems planning work that leads to the selection of a particular corridor for conducting an alternatives analysis, or for work performed after the Locally Preferred Alternative (LPA) has been selected. There is no blanket pre-award authority for studies to be funded under this notice before FTA's public announcement of the selections.

3. Cost Sharing or Matching

The total federal share (Section 5339 funds plus other federal funds) of the cost of studies or technical tasks selected for funding may not exceed 80 percent. Section 5339 requests may range between $50,000 and $2 million. Funds remain available for three fiscal years, including the fiscal year in which the award is made. FTA will not approve deferred local share requests under this program.

C. Evaluation Criteria, Review, and Selection

1. Evaluation Criteria

The submitted proposals will be evaluated according to the following criteria. Each proposer is encouraged to demonstrate the responsiveness of their proposal to any and all of the selection criteria with the most relevant information that the proposer can provide, regardless of whether such information has been specifically requested, or identified, in this notice. FTA will assess the extent to which the proposal addresses each of the three criteria below.

a. Demonstrated Need

Proposers must demonstrate a need for these funds by identifying a transportation problem in the study corridor that warrants an evaluation of major transit improvements, including alternatives that may be suitable for New Starts or Small Starts funding. For both new and ongoing alternatives analyses, higher scores will be assigned to studies in areas that have been prioritized in the metropolitan planning process as having a significant transportation need, particularly through inclusion of conceptual corridor improvements in fiscally constrained long-range transportation plans. Proposals for both new and ongoing studies must show there is a need for these funds to support a meaningful future analysis of alternative modes and alignments, as opposed to efforts aimed at justifying largely predefined projects.

b. Advancing Livability

Proposers must describe the proposed study's role in broader efforts to advance the six DOT-HUD-EPA Livability Principles. Higher scores will be assigned to proposals that are linked to a history of concrete actions as well as ongoing planning efforts to enhance livability.

c. Study Approach and Outcomes

Proposers must outline a study approach that is likely to provide decision-makers with actionable information about the costs and benefits of investment alternatives while meaningfully involving project stakeholders. Higher scores will be assigned to proposals that demonstrate successful outcomes from prior alternatives analyses, a robust public involvement plan, evidence of partnerships with related organizations (such as housing- and environment-focused public agencies), and demonstration of technical capacity to complete all work.

2. Review and Selection Process

In addition to other FTA staff that may review the proposals, a technical evaluation committee will review proposals based on the evaluation criteria. Members of the technical evaluation committee and other involved FTA staff reserve the right to screen the proposals and seek clarification from any proposer about any statement in the proposal that FTA finds ambiguous and/or request additional documentation to be considered during the evaluation process to clarify information contained within the proposal. After consideration of the findings of the technical evaluation committee, the FTA Administrator will determine the final selection and amount of funding for each study. Geographic diversity and other discretionary awards may be considered in FTA's award decisions. FTA expects to announce the selected studies and notify successful proposers in August 2012.

III. Proposal and Submission Information

A. Proposal Submission Process

Proposals must be submitted electronically through http://www.GRANTS.GOV by 11:59 p.m. EDT, April 19, 2012. Mail and fax submissions will not be accepted.

A complete proposal submission will consist of at least three files: (1) The SF 424 Mandatory form (downloaded from GRANTS.GOV); (2) the supplemental form found on the FTA Alternatives Analysis program Web site: http://fta.dot.gov/alternativesanalysis; and (3) a map of the study corridor. The supplemental form, titled Applicant and Proposal Profile, provides guidance and a consistent format for proposers to respond to the criteria outlined in this NOFA. Once completed, the supplemental form and the study corridor map must be placed in the attachments section of the SF 424 Mandatory form. Letters of support and materials referenced in the supplemental form may also be submitted as attachments; however, FTA will not consider narrative beyond the text that can be accommodated within the supplemental form's character limits.

Within 24-48 hours after submitting an electronic application, the proposer should receive three email messages from GRANTS.GOV: (1) Confirmation of successful transmission to GRANTS.GOV, (2) confirmation of successful validation by GRANTS.GOV, and (3) confirmation of successful validation by FTA. If confirmations of successful validation are not received and a notice of failed validation or incomplete materials is received, the proposer must address the reason for the failed validation or incomplete materials and resubmit before the submission deadline. If making a resubmission for any reason, include all original attachments regardless of which attachments were updated and check the box on the supplemental form indicating this is a resubmission.

Complete instructions on the application process can be found at http://www.fta.dot.gov/alternativesanalysis. Important: FTA urges proposers to submit their applications at least 72 hours prior to the due date to allow time to receive the validation message and to correct any problems that may have caused a rejection notification. Submissions after the stated submission deadline will not be accepted. GRANTS.GOV scheduled maintenance and outage times are announced on the GRANTS.GOV Web site http://www.GRANTS.GOV. Deadlines will not be extended due to scheduled maintenance or outages.

B. Proposal Content

Information such as applicant name, federal amount requested, match amount, description of areas served, etc. are requested in varying degrees of detail on both the SF 424 Mandatory form and supplemental “Applicant and Proposal Profile” form. All fields are required unless stated otherwise on the forms. Use both the “Check Package for Errors” and the “Validate Form” validation buttons on both forms to check all required fields on the forms. Ensure that the “Federal” amount identified on the SF 424 Mandatory form is the same as the “5339 Request” total amount calculated on the supplemental form. For up-to-date guidance on the completion of all forms, refer to FTA's Alternatives Analysis Web site: http://fta.dot.gov/alternativesanalysis. The supplemental form has three sections:

1. Applicant Information

This section contains basic proposer identification information: organization legal name, FTA Recipient ID number, and transit services provided.

2. Project (Study) Information

This section contains background information about the project (study): title, proposed scope of work, map of the study corridor (map attachment to SF 424 application is required), descriptions of the corridor, project budget allocated into major tasks, including the source of local match, and time-line for beginning and ending the major tasks.

3. Evaluation Criteria

This section contains information for direct use in the evaluation process: demonstrated need, advancing livability, and study approach and outcomes.

C. Submission Dates and Times

Complete proposals for the Alternatives Analysis program must be submitted electronically through GRANTS.GOV by 11:59 p.m. EDT on April 19, 2012. Proposers are encouraged to begin the process of registration on the GRANTS.GOV site well in advance of the submission deadline. Registration is a multi-step process, which may take several weeks to complete before a proposal can be submitted. Registered proposers may still be required to take steps to keep their registration up to date before submissions can be made successfully: (1) registration in the Central Contractor Repository (CCR) is renewed annually and (2) persons making submissions on behalf of the Authorized Organization Representative (AOR) must be authorized in GRANTS.GOV by the AOR to make submissions.

IV. Award Administration

A. Award Notices

At the time the project (study) selections are announced, FTA will extend pre-award authority for the selected projects awarded to current grantees. There is no blanket pre-award authority for these projects before announcement.

B. Administrative and National Policy Requirements

1. Grant Requirements

If selected, applicants will apply for a grant through TEAM and adhere to the customary FTA grant requirements of the Section 5339 Alternatives Analysis program, including those of FTA Circular 9300.1B, Circular 5010.1D, and the labor protections of 49 U.S.C. Section 5333(b). These grants will be administered and managed by the FTA regional offices. The Alternatives Analysis must be documented in the Unified Planning Work Program (UPWP) of the MPO for the area before these funds can be used. All discretionary grants, regardless of award amount, will be subject to the Congressional Notification and release process. Technical assistance regarding these requirements is available from each FTA regional office.

2. Standard Assurances

The applicant assures that it will comply with all applicable Federal statutes, regulations, executive orders, FTA circulars, and other Federal administrative requirements in carrying out any activity supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

3. Reporting

Post-award reporting requirements include submission of Federal Financial Reports and Milestone reports in TEAM on a quarterly basis for all projects. Documentation is required for payment. In addition, project sponsors receiving grants for innovative approaches may be required to report on the performance of these approaches.

V. Agency Contacts and Technical Assistance

Contact the appropriate FTA Regional Office at http://www.fta.dot.gov for proposal-specific information and issues. For general program information, please use the contact identified in the front of this notice. During the application period, FTA may post answers to commonly asked questions about the Alternatives Analysis program at www.fta.dot.gov/alternativesanalysis.

Issued in Washington, DC, this 7th day of March, 2012.
Peter Rogoff,
Administrator.

[FR Doc. 2012-5895 Filed 3-9-12; 8:45 am]

BILLING CODE P